DEPARTMENT OF TRANSPORTATION

Federal Aviation Administration

14 CFR Part 39

[Docket No. 2003-SW-01-AD; Amendment 39-13118; AD 2003-08-07]

RIN 2120-AA64

Airworthiness Directives; Bell Helicopter Textron Canada Model 222, 222B, 222U, and 230 Helicopters

AGENCY: Federal Aviation Administration, DOT.

ACTION: Final rule; request for comments.

SUMMARY: This amendment adopts a new airworthiness directive (AD) for Bell Helicopter Textron Canada (BHTC) Model 222, 222B, 222U, and 230 helicopters. This action requires inspecting the main rotor pendulum weight support (pendulum weight support) for file or grinding marks, gouges, and appropriate edge breaks. It also requires, if necessary, reworking and remarking or replacing the pendulum weight support. Regardless, this AD requires a magnetic particle inspection for a crack and replacing the pendulum weight support if a crack is found. This amendment is prompted by a pendulum weight support failure and shedding of the pendulum weight set in flight and a subsequent determination of manufacturing defects on certain serial-numbered pendulum weight supports. This condition, if not corrected, could result in the pendulum weights separating from the pendulum weight support and striking the vertical fin or tail rotor, and subsequent loss of control of the helicopter.

DATES: Effective May 1, 2003.

The incorporation by reference of certain publications listed in the regulations is approved by the Director of the Federal Register as of May 1, 2003.

Comments for inclusion in the Rules Docket must be received on or before June 16, 2003.

ADDRESSES: Submit comments in triplicate to the Federal Aviation Administration (FAA), Office of the Regional Counsel, Southwest Region, Attention: Rules Docket No. 2003-SW-01-AD, 2601 Meacham Blvd., Room 663, Fort Worth, Texas 76137. You may also send comments electronically to the Rules Docket at the following address: 9-asw-adcomments@faa.gov.

The service information referenced in this AD may be obtained from Bell Helicopter Textron Canada, 12,800 Rue de l'Avenir, Mirabel, Quebec J7J1R4, telephone (450) 437-2862 or (800) 363-8023, fax (450) 433-0272. This information may be examined at the FAA, Office of the Regional Counsel, Southwest Region, 2601 Meacham Blvd., Room 663, Fort Worth, Texas; or at the Office of the Federal Register, 800 North Capitol Street, NW., suite 700, Washington, DC.

FOR FURTHER INFORMATION CONTACT: Charles Harrison, Aviation Safety Engineer, FAA, Rotorcraft Directorate, Rotorcraft Standards Staff, Fort Worth, Texas 76193-0110, telephone (817) 222-5128, fax (817) 222-5961.

SUPPLEMENTARY INFORMATION: Transport Canada, which is the airworthiness authority for Canada, notified the FAA that an unsafe condition may exist on BHTC Model 222, 222B, 222U, and 230 helicopters. Transport Canada advises that pendulum weight supports could have manufacturing discrepancies like file or grinding marks, gouges, or too small edge radius. This part, if not reworked and inspected or replaced, could fail in flight.

BHTC has issued the following alert service bulletins, all dated March 28, 2002:

• Bell Helicopter Textron (BHT) Alert Service Bulletin (ASB) 222-02-92 for Model 222 and 222B helicopters;

• BHT ASB 222U-02-63 for Model 222U helicopters; and

• BHT ASB 230-02-25 for Model 230 helicopters.

The ASBs specify inspecting the pendulum support weights and, if necessary, reworking and remarking or replacing the pendulum weight supports no later than the next scheduled 150 hours time-in-service (TIS) inspection, and prior to installation of spare supports. Transport Canada classified these ASBs as mandatory and issued AD CF-2002-33, dated July 4, 2002, to ensure the continued airworthiness of these helicopters in Canada. Transport Canada's AD requires accomplishing the actions within 50 hours TIS, as does this AD.

These helicopter models are manufactured in Canada and are type certificated for operation in the United States under the provisions of 14 CFR 21.29 and the applicable bilateral agreement. Pursuant to the applicable bilateral agreement, Transport Canada has kept the FAA informed of the situation described above. The FAA has examined the findings of Transport Canada, reviewed all available information, and determined that AD action is necessary for products of these type designs that are certificated for operation in the United States.

This unsafe condition is likely to exist or develop on other helicopters of the same type designs registered in the United States. Therefore, this AD is being issued to prevent the pendulum weights from separating and striking the vertical fin or tail rotor, and subsequent loss of control of the helicopter. This AD requires, within 50 hours TIS, inspecting each pendulum weight support, part number (P/N) 222-011-114-101 or “103, for file or grinding marks, gouges, and appropriate edge breaks. It also requires, if necessary, reworking and remarking or replacing the pendulum weight support. Regardless, this AD requires a magnetic particle inspection for a crack and replacing the pendulum weight support if a crack is found. The actions must be accomplished in accordance with the ASB's described previously. The short compliance time involved is required because the previously described critical unsafe condition can adversely affect the controllability or structural integrity of the helicopter. Therefore, inspecting each pendulum weight support for discrepancies, reworking and remarking or replacing each pendulum weight support, if necessary, and performing a magnetic particle inspection for a crack (and replacing the pendulum weight support if a crack is found) is required within 50 hours TIS, and this AD must be issued immediately.

Since a situation exists that requires the immediate adoption of this regulation, it is found that notice and opportunity for prior public comment hereon are impracticable, and that good cause exists for making this amendment effective in less than 30 days.

The FAA estimates that 108 helicopters will be affected by this AD, that it will take approximately 10 work hours to accomplish the inspection, reworking and remarking or replacing the two pendulum weight supports, and that the average labor rate is $60 per work hour. Required parts will cost approximately $1,734 per helicopter. Based on these figures, the total cost impact of the AD on U.S. operators is estimated to be $252,072, assuming that all helicopters in the fleet will require replacing two pendulum weight supports.

Comments Invited

Although this action is in the form of a final rule that involves requirements affecting flight safety and, thus, was not preceded by notice and an opportunity for public comment, comments are invited on this rule. Interested persons are invited to comment on this rule by submitting such written data, views, or arguments as they may desire. Communications should identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Comments are specifically invited on the overall regulatory, economic, environmental, and energy aspects of the rule that might suggest a need to modify the rule. All comments submitted will be available in the Rules Docket for examination by interested persons. A report that summarizes each FAA-public contact concerned with the substance of this AD will be filed in the Rules Docket.

Commenters wishing the FAA to acknowledge receipt of their mailed comments submitted in response to this rule must submit a self-addressed, stamped postcard on which the following statement is made: “Comments to Docket No. 2003-SW-01-AD.” The postcard will be date stamped and returned to the commenter.

The regulations adopted herein will not have a substantial direct effect on the States, on the relationship between the national Government and the States, or on the distribution of power and responsibilities among the various levels of government. Therefore, it is determined that this final rule does not have federalism implications under Executive Order 13132.

The FAA has determined that this regulation is an emergency regulation that must be issued immediately to correct an unsafe condition in aircraft, and that it is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

2003-08-07 Bell Helicopter Textron Canada: Amendment 39-13118. Docket No. 2003-SW-01-AD.

Applicability: Model 222 helicopters, serial numbers (S/N) 47006 through 47089; Model 222B helicopters, S/N 47131 through 47156; Model 222U helicopters, S/N 47501 through 47574; and Model 230 helicopters, S/N 23001 through 23038, with main rotor pendulum weight support (pendulum weight support), part number (P/N) 222-011-114-101 or -103, except for pendulum weight supports with a S/N having a prefix of “FN” and numbers 363 through 409, installed, certificated in any category.

Note 1: This AD applies to each helicopter identified in the preceding applicability provision, regardless of whether it has been otherwise modified, altered, or repaired in the area subject to the requirements of this AD. For helicopters that have been modified, altered, or repaired so that the performance of the requirements of this AD is affected, the owner/operator must request approval for an alternative method of compliance in accordance with paragraph (f) of this AD. The request should include an assessment of the effect of the modification, alteration, or repair on the unsafe condition addressed by this AD; and if the unsafe condition has not been eliminated, the request should include specific proposed actions to address it.

Compliance: Required within 50 hours time-in-service, unless accomplished previously.

To prevent the main rotor pendulum weights (pendulum weights) from separating from the pendulum weight support and striking the vertical fin or tail rotor, and subsequent loss of control of the helicopter, accomplish the following:

(a) Inspect the edges of each pendulum weight support, P/N 222-011-114-101 or -103, for an edge break of 0.02 to 0.04 inch radius or 0.02 to 0.04 inch × 45 degrees chamfer in accordance with the Accomplishment Instructions, paragraphs 1 through 3, in Bell Helicopter Textron (BHT) Alert Service Bulletin (ASB) 222-02-92 for Model 222 and 222B helicopters; BHT ASB 222U-02-63 for Model 222U helicopters; or BHT ASB 230-02-25 for Model 230 helicopters, all dated March 28, 2002.

(b) Inspect the edges of each pendulum weight support for file marks, grinding marks, or gouges, and to ensure that edge break machining/polishing marks are in the correct direction as shown in Figure 1 of each ASB cited in paragraph (a) of this AD.

(c) If the edge breaks do not meet the requirements in paragraphs (a) and (b) of this AD:

(1) Rework the edges in accordance with Figure 1 and the Accomplishment Instructions, paragraph 6, in the applicable ASB.

(2) Perform a magnetic particle inspection of the pendulum weight supports for a crack.

(3) Re-identify reworked pendulum weight supports in accordance with the Accomplishment Instructions, paragraphs 8 through 10, in the applicable ASB.

(d) If the edge breaks meet the requirements in paragraphs (a) and (b) of this AD, perform a magnetic particle inspection of the pendulum weight supports for a crack.

(e) If a crack is found in the pendulum weight support or the pendulum weight support cannot be reworked to meet the requirements of this AD, replace the pendulum weight support with an airworthy pendulum weight support before further flight.

(f) An alternative method of compliance or adjustment of the compliance time that provides an acceptable level of safety may be used if approved by the Manager, Regulations Group, Rotorcraft Directorate, FAA. Operators shall submit their requests through an FAA Principal Maintenance Inspector, who may concur or comment and then send it to the Manager, Regulations Group.

Note 2: Information concerning the existence of approved alternative methods of compliance with this AD, if any, may be obtained from the Regulations Group.

(g) Special flight permits may be issued in accordance with 14 CFR 21.197 and 21.199 to operate the helicopter to a location where the requirements of this AD can be accomplished.

(h) The inspections and rework and replacement, if necessary, shall be done in accordance with Bell Helicopter Textron Alert Service Bulletin 222-02-92, Bell Helicopter Textron Alert Service Bulletin 222U-02-63, or Bell Helicopter Textron Alert Service Bulletin 230-02-25, all dated March 28, 2002. This incorporation by reference was approved by the Director of the Federal Register in accordance with 5 U.S.C. 552(a) and 1 CFR part 51. Copies may be obtained from Bell Helicopter Textron Canada, 12,800 Rue de l'Avenir, Mirabel, Quebec J7J1R4, telephone (450) 437-2862 or (800) 363-8023, fax (450) 433-0272. Copies may be inspected at the FAA, Office of the Regional Counsel, Southwest Region, 2601 Meacham Blvd., Room 663, Fort Worth, Texas; or at the Office of the Federal Register, 800 North Capitol Street, NW., suite 700, Washington, DC.

(i) This amendment becomes effective on May 1, 2003.

Note 3: The subject of this AD is addressed in Transport Canada (Canada) AD CF-2002-33, dated July 4, 2002.

Issued in Fort Worth, Texas, on April 7, 2003.
Eric Bries,
Acting Manager, Rotorcraft Directorate, Aircraft Certification Service.

[FR Doc. 03-9011 Filed 4-15-03; 8:45 am]

BILLING CODE 4910-13-P